MILITARY COMPENSATION AND RETIREMENT MODERNIZATION COMMISSION

Meeting of the Military Compensation and Retirement Modernization Commission

AGENCY: Military Compensation and Retirement Modernization Commission.

ACTION: Notice town hall meeting.

SUMMARY: The Military Compensation and Retirement Modernization Commission (Commission) was established by the National Defense Authorization Act for FY 2013. Pursuant to the Act, the Commission is holding public hearings and a town hall to solicit comments from the general public and select experts on the modernization of the military compensation and retirement systems.

DATES: The town hall will be held Thursday, October 16, 2014.

ADDRESSES: The town hall will be held at the Marriott Courtyard, 1721 E. Central Texas Expressway (US Route 190), Killeen, Texas 76541.

FOR FURTHER INFORMATION CONTACT: Christopher Nuneviller, Associate Director, Military Compensation and Retirement Modernization Commission, PO Box 13170, Arlington Virginia 22209; telephone 703-692-2080; fax 703-697-8330; email christopher.nuneviller@mcrmc.gov.

SUPPLEMENTARY INFORMATION: The Military Compensation and Retirement Modernization Commission (Commission) was established by the National Defense Authorization Act for FY 2013, Public Law 112-239, §§ 671-680 (2013), (amended by National Defense Authorization Act for FY 2014, Pub. L. 113-66, § 1095(b)) (2014). The Commission will conduct public hearings and town halls across the United States and on select military installations internationally to solicit comments on the modernization of the military compensation and retirement systems. The Commission seeks the views of Service members, veterans, retirees, their beneficiaries and other interested parties regarding pay, retirement, health benefits and quality of life programs of the Uniformed Services. The Commission will hear from senior commanders of local military commands and their senior enlisted advisors, unit commanders and their family support groups, local medical and education community representatives, and other quality of life organizations. These meetings sites will be accessible to members of the general public including individuals with disabilities.

On Thursday, October 16, 2014, the Commission will hold a public town hall meeting from 7:00 p.m. until 9:00 p.m.

Thursday, October 16, 2014 Agenda

7:00 p.m. to 9:00 p.m. Town Hall.

On the evening of Thursday, October 16, 2014, the Chairman and Commissioners will hear from the public. Attendees will be given an opportunity to address the Chairman and Commissioners and relay to them their experience and comments.

Due to the deliberative, nascent and formative nature of the Commission's work, the Commissioners are unable to discuss their thoughts, plans or intentions for specific recommendations that will ultimately be made to the President and Congress.

The town hall will be transcribed and the transcripts placed on the Commission's Web site. In addition to public hearings, and due to the essential need for input from the beneficiaries, the Commission is accepting and strongly encourages comments and other submissions through its Web site (www.mcrmc.gov).

Christopher Nuneviller,
Associate Director, Administration and Operations.

[FR Doc. 2014-24148 Filed 10-8-14; 8:45 am]

BILLING CODE P